DEPARTMENT OF ENERGY

Federal Energy Regulatory Commission

Combined Notice of Filings #1

September 5, 2006.

Take notice that the Commission received the following electric corporate filings:

Docket Numbers: EC06-155-000.

Applicants: Entergy Nuclear Palisades, LLC; Consumers Energy Company.

Description: Entergy Nuclear Palisades, LLC, et al. submits a joint application for approval under section 203 of the Federal Power Act.

Filed Date: August 25, 2006.

Accession Number: 20060830-0018.

Comment Date: 5 p.m. Eastern Time on Friday, September 15, 2006.

Docket Numbers: EC06-156-000.

Applicants: BBPOP Wind Equity LLC; Caprock Wind LLC; Bank of America.

Description: BBPOP Wind Equity LLC et al submits filing of an Joint Application for Order Authorizing the Indirect Disposition of Jurisdictional Facilities.

Filed Date: August 29, 2006.

Accession Number: 20060830-0031.

Comment Date: 5 p.m. Eastern Time on Tuesday, September 19, 2006.

Take notice that the Commission received the following electric rate filings:

Docket Numbers: ER97-2801-014.

Applicants: PacifiCorp.

Description: PacifiCorp informs FERC of a change in status with regard to the characteristics previously relied upon in granting its market-based rate authority.

Filed Date: August 28, 2006.

Accession Number: 20060830-0026.

Comment Date: 5 p.m. Eastern Time on Monday, September 18, 2006.

Docket Numbers: ER02-2330-043.

Applicants: ISO New England Inc.

Description: ISO New England, Inc submits proposes to file changes to Market Rule 1 in compliance with FERC's May 31, 2006 Order under ER02-2330.

Filed Date: August 28, 2006.

Accession Number: 20060830-0043.

Comment Date: 5 p.m. Eastern Time on Monday, September 18, 2006.

Docket Numbers: ER06-1119-002.

Applicants: San Diego Gas & Electric Company.

Description: San Diego Gas & Electric Company submits corrected Revised Tariff Sheets 130 et al pursuant to the Commission's August 7, 2006 letter order.

Filed Date: August 29, 2006.

Accession Number: 20060830-0038.

Comment Date: 5 p.m. Eastern Time on Tuesday, September 19, 2006.

Docket Numbers: ER06-1218-001.

Applicants: PJM Interconnection, LLC.

Description: PJM Interconnection, LLC submits amendment to its initial July 3, 2006 filing of its Restated Operating Agreement and Open Access Transmission Tariff pursuant to the Commission's July 20, 2006 Final Rule.

Filed Date: August 28, 2006.

Accession Number: 20060830-0041.

Comment Date: 5 p.m. Eastern Time on Monday, September 11, 2006.

Docket Numbers: ER06-1293-001.

Applicants: Southern Companies Services Inc.

Description: Southern Company Services, Inc submits its First Revised Service Agreement 487 along with its revised cover page.

Filed Date: August 29, 2006.

Accession Number: 20060901-0119.

Comment Date: 5 p.m. Eastern Time on Tuesday, September 19, 2006.

Docket Numbers: ER06-1420-000.

Applicants: Midwest Independent Transmission System Operator, Inc.

Description: Midwest Independent Transmission System Operator, Inc on behalf of Midwest CRSG Parties submits its Midwest Contingency Reserve Sharing Group Agreement in compliance with NERC standards.

Filed Date: August 25, 2006.

Accession Number: 20060830-0042.

Comment Date: 5 p.m. Eastern Time on Friday, September 15, 2006.

Docket Numbers: ER06-1421-000.

Applicants: The Clearing Corporation.

Description: The Clearing Corp submits an application for order authorizing market-based rates for Electric Tariff Original Volume 1, waivers, blanket authorizations and request for expedited action.

Filed Date: August 29, 2006.

Accession Number: 20060831-0045.

Comment Date: 5 p.m. Eastern Time on Tuesday, September 19, 2006.

Docket Numbers: ER06-1422-000.

Applicants: Louisville Gas & Electric Company; Kentucky Utilities Company.

Description: Louisville Gas and Electric Co et al submit a request that FERC find that sales of energy directly or indirectly to Big Rivers Electric Corp in order to satisfy automatic reserve sharing agreement obligations or accept its section 205 application.

Filed Date: August 29, 2006.

Accession Number: 20060830-0037.

Comment Date: 5 p.m. Eastern Time on Tuesday, September 19, 2006.

Docket Numbers: ER06-1423-000.

Applicants: Southern Company Services, Inc.

Description: Gulf Power Company submits materials in support of updated depreciation rates in the calculation of charges for service etc pursuant to certain jurisdictional contracts and rate schedules.

Filed Date: August 29, 2006.

Accession Number: 20060830-0036.

Comment Date: 5 p.m. Eastern Time on Tuesday, September 19, 2006.

Docket Numbers: ER06-1424-000.

Applicants: Public Service Company of New Mexico.

Description: Public Service Co of New Mexico submits its Second Revised Network Integration Transmission Service Agreement and Second Revised Network Operating Agreement with Incorporated County of Los Alamos, NM.

Filed Date: August 30, 2006.

Accession Number: 20060901-0118.

Comment Date: 5 p.m. Eastern Time on Wednesday, September 20, 2006.

Docket Numbers: ER06-1425-000.

Applicants: Kentucky Utilities Company.

Description: Kentucky Utilities submits a notice of cancellation of its transmission agreement with Eastern Kentucky Power Cooperative, effective August 31, 2006.

Filed Date: August 16, 2006.

Accession Number: 20060825-0010.

Comment Date: 5 p.m. Eastern Time on Wednesday, September 6, 2006.

Docket Numbers: ER06-1426-000.

Applicants: Oklahoma Gas and Electric Company.

Description: Oklahoma Gas & Electric Co submits its Notice of Cancellation of Rate Schedule 125, Power Exchange Agreement with KAMO Electric Cooperative, Inc.

Filed Date: August 30, 2006.

Accession Number: 20060901-0052.

Comment Date: 5 p.m. Eastern Time on Wednesday, September 20, 2006.

Docket Numbers: ER06-1427-000.

Applicants: NorthWestern Corporation.

Description: NorthWestern Corp submits its Rate Schedule 247, Agreement for Distribution Level Electric Interconnection Services with Missoula Electric Coop, Inc.

Filed Date: August 29, 2006.

Accession Number: 20060901-0054.

Comment Date: 5 p.m. Eastern Time on Tuesday, September 19, 2006.

Docket Numbers: ER06-1428-000.

Applicants: Merrill Lynch Capital Services, Inc.

Description: Merrill Lynch Capital Services, Inc submits its Notice of Cancellation of its Market-Based Rate Tariff, FERC Electric Original Volume 1.

Filed Date: August 30, 2006.

Accession Number: 20060901-0057.

Comment Date: 5 p.m. Eastern Time on Wednesday, September 20, 2006.

Docket Numbers: ER06-1429-000.

Applicants: Westar Energy, Inc.

Description: Westar Energy, Inc submits Rate Schedule FERC 171 Energy Management Agreement with Municipal Electric Utility Commission.

Filed Date: August 30, 2006.

Accession Number: 20060901-0056.

Comment Date: 5 p.m. Eastern Time on Wednesday, September 20, 2006.

Docket Numbers: ER06-1430-000.

Applicants: SP Newsprint CO.

Description: SP Newsprint CO submits its Petition for Order Accepting Market-Based Rate Schedule for Filling and Granting Waivers and Blanket Approvals.

Filed Date: August 29, 2006.

Accession Number: 20060901-0068.

Comment Date: 5 p.m. Eastern Time on Tuesday, September 19, 2006.

Docket Numbers: ER06-1431-000.

Applicants: Florida Power & Light Company.

Description: Florida Power & Light Co submits its Engineering and Procurement for Oleander Unit 5 Interconnection with Southern Company Services, Inc Original Service Agreement 252.

Filed Date: August 29, 2006.

Accession Number: 20060901-0058.

Comment Date: 5 p.m. Eastern Time on Tuesday, September 19, 2006.

Docket Number: ER06-1432-000.

Applicants: Commonwealth Edison Company.

Description: Commonwealth Edison Company submits Interconnection Agreement and Construction Agreement with the City of Batavia and PJM Interconnection, LLC under ER06-1432.

Filed Date: August 30, 2006.

Accession Number: 20060901-0069.

Comment Date: 5 p.m. Eastern Time on Wednesday, September 20, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-14951 Filed 9-8-06; 8:45 am]

BILLING CODE 6717-01-P